SOCIAL SECURITY ADMINISTRATION

[Docket No. SSA-2014-0038]

Finding Regarding Foreign Social Insurance or Pension System—Slovenia

AGENCY: Social Security Administration.

ACTION: Notice of Finding Regarding Foreign Social Insurance or Pension System—Slovenia.

Finding: Section 202(t)(1) of the Social Security Act (42 U.S.C. 402(t)(1)) prohibits payment of monthly benefits to any individual who is not a United States citizen or national for any month after he or she has been outside the United States for 6 consecutive months. This prohibition does not apply to such an individual where one of the exceptions described in section 202(t)(2) through 202(t)(5) of the Social Security Act (42 U.S.C. 402(t)(2) through 402(t)(5)) affects his or her case.

Section 202(t)(2) of the Social Security Act provides that, subject to certain residency requirements of Section 202(t)(11), the prohibition against payment shall not apply to any individual who is a citizen of a country which the Commissioner of Social Security finds has in effect a social insurance or pension system which is of general application in such country and which:

(a) Pays periodic benefits, or the actuarial equivalent thereof, on account of old age, retirement, or death; and

(b) permits individuals who are United States citizens but not citizens of that country and who qualify for such benefits to receive those benefits, or the actuarial equivalent thereof, while outside the foreign country regardless of the duration of the absence.

The Commissioner of Social Security has delegated the authority to make such a finding to the Associate Commissioner of the Office of International Programs. Under that authority, the Associate Commissioner of the Office of International Programs approved a finding that Slovenia, beginning April 1, 1992, has a social insurance system of general application which:

(a) Pays periodic benefits, or the actuarial equivalent thereof, on account of old age, retirement, or death; and

(b) permits United States citizens who are not citizens of Slovenia to receive such benefits, or their actuarial equivalent, at the full rate without qualification or restriction while outside Slovenia.

Accordingly, notice is given that it has been determined and found that Slovenia has in effect, beginning April 1, 1992, a social insurance system which meets the requirements of section 202(t)(2) of the Social Security Act (42 U.S.C. 402(t)(2)).

This determination is our first finding under section 202(t) of the Social Security Act for Slovenia. On April 1, 1992, the United States recognized Slovenia as an independent nation. Before that time, it was considered to be part of former Yugoslavia which, on March 25, 1959, had been determined to have a system that met section 202(t)(2) of the Social Security Act. The system remained in force in Slovenia until the Law on Pension and Disability Insurance went into effect on April 1, 1992. Thus, prior to that date Slovenian citizens were afforded the social insurance exception to the alien nonpayment provision based on the Yugoslavian system which was then in effect.

FOR FURTHER INFORMATION CONTACT: Donna L. Powers, 3700 Robert Ball Building, 6401 Security Boulevard, Baltimore, MD 21235-6401, (410) 965-3558.

(Catalog of Federal Domestic Assistance: Program Nos. 96.001 Social Security—Disability Insurance; 96.00S Social Security—Retirement Insurance; 96-004 Social Security—Survivors Insurance).

Dated: July 16, 2014.
Vance Teel,
Associate Commissioner Office of International Programs.

[FR Doc. 2014-17283 Filed 7-22-14; 8:45 am]

BILLING CODE 4191-02-P